DEPARTMENT OF LABOR

Employment and Training Administration

Division of Foreign Labor Certification; Designation of Centralized Location in Each State for the Processing of H-2A Applications; General Administration Letter No. 2-01

The Employment and Training Administration administers and interprets the requirements of the temporary, alien agricultural labor certification (H-2A) program. These interpretations are issued in General Administration Letters (GAL's) to its Regional Offices and the State Employment Security Agencies. The GAL below is published in the Federal Register in order to inform the public.

GAL No. 2-01

GAL No. 2-01 lists the centralized H-2A processing locations in each state.

Signed at Washington, DC this 10th day of April 2001.
Raymond J. Uhalde,
Deputy Assistant Secretary of Labor.

U. S. Department of Labor

Employment and Training Administration

Washington, D.C. 20210

Classification: H-2A

Correspondence Symbol: OWS

Date: March 14, 2001

Directive: General Administration Letter No. 2-01

To: All State Employment Security Agencies

From: Lenita Jacobs-Simmons, Deputy Assistant Secretary

Subject: Designation of Centralized Location in Each State for the Processing of H-2A Applications

1. Purpose. To distribute a list of the centralized H-2A processing locations in each State.

2. References. 20 CFR part 655, Subpart B 20 CFR 655.101(a).

3. Background. As a result of funding reductions and streamlining measures which have occurred throughout the years, most States have transferred the H-2A functions to a centralized location within the State to better coordinate the programmatic efforts between the State and the Regional Office and to expedite the H-2A certification process. The H-2A regulations at 20 CFR 655.101 require the simultaneous submission of an H-2A application to the Regional Office of the Department of Labor (DOL) and the State Employment Service Agency (SESA) in the area of intended employment. While most of the functions of the H-2A process are actually administered by one or more State-level office(s), the regulations frequently refer to the local offices of the SESA when referring to the recruitment process of the application. Most, if not all, of the correspondence that occurs during the submission of the application and the recruitment process is actually between the employer and a centralized location within the State, since most States have designated a centralized location for the processing of H-2A applications.

4. Action Required. SESAs are required to assure that employers using the H-2A program in their areas are aware of the specific location where filing and notification must occur. In the very near future, the Employment and Training Administration web site will include the listing of the SESAs' Central Office processing addresses which will be updated periodically.

5. Inquiries. Address questions and inquiries to Charlene Giles at (202) 693-2950.

6. Attachment. Listing of State Employment Service Agencies with Central Offices processing H-2A applications.

H-2A State Job Service Offices

Region I—Boston

Connecticut

Department of Labor

200 Folly Brook Blvd.

Wethersfield, CT 06109

Phone: (860) 263-6020

Maine

Department of Labor

45 State House Station

Augusta, ME 04333-0045

Phone: (207) 624-6487

Massachusetts

Massachusetts Division of Employment and Training

Charles F. Hurley ES Building

Boston, MA 02114

Phone: (617) 626-5358

New Hampshire

New Hampshire Department of Employment Security

32 South Main Street

Concord, NH 03301

Phone: (603) 228-4083

Rhode Island

Rhode Island Dept. of Labor and Training

Center General Complex, Building 73

1511 Pontiac Ave.

Cranson, RI 02920-4407

Phone: (401) 462-8813

Vermont

Vermont Department of Employment and Training

700 Exchange St., Suite 106

Middlebury, VT 05753-1529

Phone: (802) 388-5716

Region I—New York

New Jersey

New Jersey Department of Labor

Labor Building, John Fitch Plaza

Trenton, NJ 08625

Phone: (609) 777-1838

New York

New York State Department of Labor

State Campus Office Bldg #12, Rm 286

Albany, NY 12240

Phone: (518) 457-6798

Puerto Rico

Puerto Rico Department of Labor

Metro Center Building Mayaguez St. Corner Cidra

San Juan, PR 00918

Phone: (787) 754-5151 ext 2292

Region II—Philadelphia

Delaware

4425 N Market Street

Wilmington, DE 19809-0828

Phone: (302) 761-8116

Maryland

Maryland Department of Labor

Suite 100

14 North Potomac Street

Hagerstown, MD 21740

Phone: (301) 393-8218

Pennsylvania

Bureau of Employer & Career Services

7th and Forster Streets, 13th Floor

Harrisburg, PA 17120

Phone: (717) 787-6521

Virginia

Virginia Employment Commission

P.O. Box 1358, Room 333

Richmond, VA 23211

Phone: (804) 786-8714

Virginia Employment Commission

192 Bristol East Road

P.O. Box Drawer 16129

Bristol, VA 24209-6129

Phone: (540) 642-7350

Virginia Employment Commission

400 Preston Avenue

P.O. Box 1587

Charlottesville, VA 22902-1587

Phone: (804) 984-7630

Virginia Employment Commission

910 North Mecklenburg Ave

P.O. Box 6800

Danville, VA 24540

Phone: (804) 791-5291

Virginia Employment Commission

5240 Oaklawn Boulevard

Hopewell, VA 23860

Phone: (804) 541-6503

Virginia Employment Commission

3204 Main Street

P.O. Box 9

Onley, VA 23418

Phone: (757) 302-2029

Virginia Employment Commission

P.O. Box 40008

Roanoke, VA 24022

Phone: (540) 561-7489

Virginia Employment Commission

P.O. Box 485

South Hill, VA 23970

Phone: (804) 447-8700

Virginia Employment Commission

P.O. Box 67

Warsaw, VA 22572

Phone: (804) 333-3675

Virginia Employment Commission

100 Premier Place

Winchester, VA 22602

Phone: (540) 722-3415

West Virginia

Bureau of Employment Programs

112 California Avenue

Charleston, WV 25305

Phone: (304) 558-2850

Region III—Atlanta

Alabama

Department of Labor

Industrial Relations Building, Room 2805

649 Monroe Street

Montgomery, AL 36131

Phone: (334) 242-8020

Florida

Agency for Workforce Innovation

P.O. Box 10869

Tallahassee, FL 32302-0512

Phone: (850) 921-3830

Georgia

Georgia Department of Labor

148 International Blvd., Suite 450

Atlanta, GA 30303

Phone: (404) 656-3164

Kentucky

Division of Employment Services

Frankfort, KY 40621

2 West 275 East Main Street

Phone: (502) 564-7456

Mississippi

Mississippi Employment Security Commission

P.O. Box 1699

Jackson, MS 39215

Phone: (601) 961-7529

North Carolina

North Carolina Employment Security Commission

P.O. Box 27625

Raleigh, NC 27611

Phone: (919) 733-3210

South Carolina

South Carolina Employment Security Commission

P.O. Box 1406

Columbia, SC 29202

Phone: (803) 737-2599

Tennessee

Department of Labor and Workforce Development

Davy Crockett Tower—11th Floor

500 James Robertson Pkwy.

Nashville, TN 37245-1200

Phone: (615) 741-1977

Region IV—Dallas

Arkansas

Employment Security Department

Post Office Box 2981

Little Rock, AR 72203-2981

Phone: (501) 682-3129

Colorado

Colorado Dept of Labor & Employment

Tower 2, Suite 400

1515 Arapahoe St.

Denver, CO 80202-2117

Phone: (303) 620-4202

Louisiana

Louisiana Department of Labor

Post Office Box 94094

Baton Rouge, LA 70804-9094

Phone: (225) 342-3280

Montana

Department of Labor & Industry

Box 1728

Helena, MT 59624

Phone: (406) 444-3480

New Mexico

New Mexico Department of Labor

401 Broadway, NE

P.O. Box 1928

Albuquerque, NM 87103

Phone: (505) 841-8878

North Dakota

Job Service of North Dakota

P.O. Box 1727

Minot, ND 57502

Phone: (701) 857-7557

Oklahoma

Oklahoma Employment Security Commission

Will Rogers Memorial Office Building

P.O. Box 52003

Oklahoma City, OK 73152-2003

Phone: (405) 557-7126

South Dakota

South Dakota Dept. of Labor

700 Governors Drive

Pierre, SD 57501

Phone: (605) 773-3101

Texas

Texas Workforce Commission

101 E. 15th Street Room 424T

Austin, Texas 78778

Phone: (512) 463-2977

Utah

Utah Department of Workforce Services

140 E 300 Street

Salt Lake City, UT 84145-0249

Phone: (801) 526-9459

Wyoming

Department of Employment

P.O. Box 70

Rawlins, WY 82301-0070

Phone: (307) 324-3485

Region V—Chicago

Illinois

Illinois Department of Employment Security

401 South State Street, 7th Floor

Chicago, IL 60605

Phone: (312) 793-6807

Indiana

Indiana Dept. of Workforce Development

10 N. Senate Ave.

Indianapolis, IN 46204

Phone: (317) 232-7187

Iowa

Iowa Workforce Development

150 Des Moines St.

Des Moines, IA 50309-5563

Phone: (515) 281-9336

Kansas

Department of Human Resources

Division of Employment and Training

401 Southwest Topeka Blvd.

Topeka, KS 66603-3182

Phone: (785) 296-5014

Michigan

Michigan Dept of Career Development

7310 Woodward Ave.

Detroit, MI 48202

Phone: (313) 876-5284

Missouri

Division of Employment Security

P.O. Box 1087

Jefferson City, MO 65102

Phone: (573) 751-3773

Minnesota

Minnesota Dept of Economic Security

390 N. Robert St.

Minneapolis, MN 55101

Phone: (651) 296-2949

Nebraska

Nebraska Workforce Development

P.O. Box 94600

Lincoln, NE 68509

Phone: (402) 471-2776

Ohio

Ohio Dept of Jobs & Family Services

145 S. Front Street

Columbus, OH 43216

Phone: (614) 644-7288

Wisconsin

Wisconsin Dept. of Workforce Development

201 E. Washington Ave.

Madison, WI 53707

Phone: (608) 266-0017

Region VI—San Francisco

Alaska

Alaska Department of Labor & Workforce Development

P.O. Box 25509

Juneau, AK 99802

Phone: (907) 465-5956

Arizona

Arizona Department of Economic Security

P.O. Box 6123

Phoenix, AZ 85007

Phone: (602) 542-6515

California

Employment Development

800 Capitol Mall, MIC 37

Sacramento, CA 95814

Phone: (916) 654-9270

Hawaii

Workforce Development Division

830 Punchbowl Street Room 329

Honolulu, HI 96813

Phone: (808) 586-8820

Idaho

Idaho Department of Labor

317 W Main Street

Boise, ID 83735

Phone: (208) 334-6139

Nevada

Department Employment Training & Rehabilitation

500 East 3rd Street

Carson City, NV 89713

Phone: (775) 684-0415

Oregon

Oregon Employment Department

875 Union Street NE Rm 201

Salem, OR 97311

Phone: (503) 947-1679

Washington

Employment Security Department—WorkSource Operations Division

P.O. Box 9046

Olympia, WA 98507-9046

Phone: (360) 438-3285

[FR Doc. 01-9574 Filed 4-17-01; 8:45 am]

BILLING CODE 4510-30-P